DEPARTMENT OF HEALTH AND HUMAN SERVICES

Office of the Secretary

[Document Identifier: 0990-0448-30D]

Agency Information Collection Activities; Submission to OMB for Review and Approval; Public Comment Request

AGENCY: Office of the Secretary, HHS.

ACTION: Notice.

SUMMARY: In compliance with section 3507(a)(1)(D) of the Paperwork Reduction Act of 1995, the Office of the Secretary (OS), Department of Health and Human Services, has submitted an Information Collection Request (ICR), described below, to the Office of Management and Budget (OMB) for review and approval. The ICR is for renewal of the approved information collection assigned OMB control number 0990-0448, scheduled to expire on December 31, 2016. Comments submitted during the first public review of this ICR will be provided to OMB. OMB will accept further comments from the public on this ICR during the review and approval period.

DATES: Comments on the ICR must be received on or before January 23, 2017.

ADDRESSES: Submit your comments to OIRA_submission@omb.eop.gov or via facsimile to (202) 395-5806.

FOR FURTHER INFORMATION CONTACT: Information Collection Clearance staff, Information.CollectionClearance@hhs.gov or (202) 690-5683.

SUPPLEMENTARY INFORMATION: When submitting comments or requesting information, please include the document identifier 0990-0448-30D for reference.

Information Collection Request Title: Surgeon General's Pledge to End the Opioid Crisis.

OMB No.: 0990-0448.

Abstract: This information collection is a critical component of a campaign to encourage health care prescribers (the user) to take action in their clinical practice to reduce the number of prescription drug overdoses and reduce the likelihood of prescription opioid drugs ending up in the possession of those who may abuse them. This information collection involves obtaining user contact information, medical profession category, medical specialty, and responses to short questions specifically designed to provide anecdotal information and contextualize the impact of the prescription opioid epidemic.

Need and Proposed Use of the Information: This information collection serves to gather contact information from clinical prescribers and responses to two short answer questions describing how prescription opioid addiction has impacted their patients and/or their practice. Zip code, profession, and specialty will be collected and analyzed to present aggregate pledge data. Each element will also be utilized to send personalized campaign communication. Understanding the demographics of the medical practitioners will improve the efficacy of the campaign to end opioid abuse by allowing for targeted communication.

Likely Respondents: Medical Prescribers.

The total annual burden hours estimated for this ICR are summarized in the table below.

Total Estimated Annualized Burden—Hours
Form name | Number of respondents | Number of responses per respondent | Average burden per response (in hours) | Total burden hours
Opioid Pledge Form | 5,000 | 1 | 5/60 | 416.67
Total | 5,000 | 1 | 5/60 | 416.67

Terry S. Clark,
Asst Information Collection Clearance Officer.

[FR Doc. 2016-30787 Filed 12-21-16; 8:45 am]

BILLING CODE 4150-28-P